DEPARTMENT OF TRANSPORTATION

Federal Aviation Administration

14 CFR Part 71

[Docket No. FAA-2010-0502; Airspace Docket No. 10-AAL-15]

Revocation and Establishment of Class E Airspace; Nuiqsut, AK

AGENCY: Federal Aviation Administration (FAA), DOT.

ACTION: Final rule.

SUMMARY: This action removes and establishes Class E airspace on the north slope of Alaska near Nuiqsut, AK, to provide controlled airspace to contain aircraft executing special Instrument Approach Procedures (IAPs) at two heliport facitities, Pioneer Heliport (AA27), Nuiqsut, AK, and Oooguruk Island Heliport (AK32), Nuiqsut, AK, both formerly known as Oooguruk Drill Site and Oooguruk Tie-in Helipads, respectively. The FAA is taking this action to enhance the safety and management of Instrument Flight Rules (IFR) operations at the Pioneer and Oooguruk Island Heliports, AK.

DATES: Effective Date: 0901 UTC, July 29, 2010. The Director of the Federal Register approves this incorporation by reference action under title 1, Code of Federal Regulations, part 51, subject to the annual revision of FAA Order 7400.9 and publication of conforming amendments.

FOR FURTHER INFORMATION CONTACT: Gary Rolf, AAL-538G, Federal Aviation Administration, 222 West 7th Avenue, Box 14, Anchorage, AK 99513-7587; telephone number (907) 271-5898; fax: (907) 271-2850; e-mail: gary.ctr.rolf@faa.gov. Internet address: http://www.faa.gov/about/office_org/headquarters_offices/ato/service_units/systemops/fs/alaskan/rulemaking/.

SUPPLEMENTARY INFORMATION:

History

On Thursday September 3, 2009, the FAA amended Title 14 Code of Federal Regulations (14 CFR) part 71, to establish Class E airspace upward from 700 ft. above the surface and from 1,200 ft. above the surface at two privately owned heliport facilities at Oooguruk, AK (74 FR 45554). The two heliports were named “Oooguruk Drill Site Helipad” and “Oooguruk Tie-in Helipad”. Subsequent to publication, the FAA gained further knowledge that the two heliports are actually named “Pioneer Heliport” and “Oooguruk Island Heliport” and should be associated with the town of Nuiqsut (the closest nearby). This administrative action is being taken without public comment as it is a simple administrative change only, and will not affect the defined controlled airspace other than by name change and minor edit to unnecessary exclusion wording. The airspace exclusion currently associated with Restricted Area 2204 is unnecessary. Class E and Restricted airspace are mutually exclusive, so the exclusion wording is being removed. Class E controlled airspace extending upward from 700 ft. and 1,200 ft. above the surface in the Pioneer and Oooguruk Island Heliport areas are removed and established by this action.

The Class E airspace areas designated as 700/1,200 ft. transition areas are published in paragraph 6005 of FAA Order 7400.9T, Airspace Designations and Reporting Points, signed August 27, 2009, and effective September 15, 2009, which is incorporated by reference in 14 CFR 71.1. The Class E airspace designations listed in this document will be published subsequently in the Order.

The Rule

This amendment to 14 CFR part 71 establishes Class E airspace extending 700 and 1,200 feet above the surface at Pioneer and Oooguruk Island Heliports, AK.

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

The FAA's authority to issue rules regarding aviation safety is found in Title 49 of the United States Code. Subtitle 1, Section 106 describes the authority of the FAA Administrator. Subtitle VII, Aviation Programs, describes in more detail the scope of the agency's authority.

This rulemaking is promulgated under the authority described in Subtitle VII, Part A, Subpart 1, Section 40103, Sovereignty and use of airspace. Under that section, the FAA is charged with prescribing regulations to ensure the safe and efficient use of the navigable airspace. This regulation is within the scope of that authority because it creates Class E airspace sufficient in size to contain aircraft executing instrument procedures for the two heliports at Pioneer Heliport, AK, and Oooguruk Island Heliport, AK, and represents the FAA's continuing effort to safely and efficiently use the navigable airspace.

List of Subjects in 14 CFR Part 71

Airspace, Incorporation by reference, Navigation (air).

Adoption of the Amendment

In consideration of the foregoing, the Federal Aviation Administration amends 14 CFR part 71 as follows:

PART 71— DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9T, Airspace Designations and Reporting Points, signed August 27, 2009, and effective September 15, 2009, is amended as follows:

Paragraph 6005 Class E airspace extending upward from 700 feet or more above the surface of the earth.

* * * * *

AAL AK E5 Oooguruk Drill Site Helipad, AK [Removed]

* * * * *

AAL AK E5 Nuiqsut, Oooguruk Island Heliport, AK [New]

Oooguruk Island Heliport, AK

(Lat. 70°29′44″ N., long. 150°15′12″ W.)

That airspace extending upward from 700 feet above the surface within a 6-mile radius of the Oooguruk Island Heliport, AK; and that airspace extending upward from 1,200 feet above the surface within a 73-mile radius of the Oooguruk Island Heliport, AK.

* * * * *

AAL AK E5 Oooguruk Tie-in Helipad, AK [Removed]

* * * * *

AAL AK E5 Nuiqsut, Pioneer Heliport, AK [New]

Pioneer Heliport, AK

(Lat. 70°24′51″ N., long. 150°01′07″ W.)

That airspace extending upward from 700 feet above the surface within a 6-mile radius of the Pioneer Heliport, AK; and that airspace extending upward from 1,200 feet above the surface within a 73-mile radius of the Pioneer Heliport, AK.

Issued in Anchorage, AK, on May 26, 2010.
Michael A. Tarr,
Acting Manager, Alaska Flight Services Information Area Group.

[FR Doc. 2010-13545 Filed 6-8-10; 8:45 am]

BILLING CODE 4910-13-P